DEPARTMENT OF DEFENSE

Department of the Army

DoD Personal Property Program

AGENCY: Department of the Army, DoD.

ACTION: Notice.

SUMMARY: The Military Surface Deployment and Distribution Command (SDDC), as Program Manager of the Department of Defense (DoD) Personal Property Shipment and Storage Program, proposes to amend Pamphlet 55-4, entitled “How To Do Business in the Department of Defense Personal Property Program.” The amended pamphlet is on SDDC's Web site at www.sddc.army.mil, Personal Property, under Carrier Qualification/Performance. We encourage you to review the amended pamphlet. Among other things, the proposed amendments include: Requires all present and future participants (commercial Transportation Service Providers (TSP's)) in the Domestic and International Personal Property Programs to use our proposed amended qualification process via the Web; addresses financial requirements; revises the Certificate of Independent Pricing (CIP) form and adds a new Certificate of Responsibility (COR) form. In addition, the pamphlet adds Trusted Agent for Electronic Transportation Acquisition and includes language concerning SDDC acting within its sole discretion, an appeal process, no tonnage make-up and changes Standard Carrier Alpha Code procedures.

This Federal Register notice supercedes and renders null and void the prior SDDC Federal Register notice (67 FR 12540) published on March 19, 2002, concerning “How To Do Business in the Department of Defense Personal Property Program” and the matters contained therein.

DATES: Comments on this proposed policy must be submitted on or before June 14, 2004, to the address given below. SDDC will implement the proposed policy December 1, 2004, except changes affecting the Debt to equity ratio (becomes required, not desired) and not recognizing amounts due from stockholders, affiliated companies or related parties as current assets for the purpose of computing the quick ratio, which will become effective with the submission of 2004 financial statements.

ADDRESSES: Surface Deployment and Distribution Command, ATTN: SDPP-PO, 10N67, Hoffman Building II, 200 Stovall Street, Alexandria, Virginia 22332-5000; e-mail address: ppqual@sddc.army.mil.

SUPPLEMENTARY INFORMATION:

Regulatory Flexibility Act

This change is not considered rule-making within the meaning of the Regulatory Flexibility Act, 5, U.S.C. 601-612.

Paperwork Reduction Act

The Paperwork Reduction Act, 44 U.S.C. 3501 et seq., does not apply because no new information collection or recordkeeping requirements are imposed on contractors, offerors or members of the public.

Thomas Hicks,
Chief, Personal Property Division.

[FR Doc. 04-10941 Filed 5-13-02; 8:45 am]

BILLING CODE 3710-08-M